DEPARTMENT OF THE INTERIOR

National Park Service

[NPS-WASO-NRNHL-11942; 2200-3200-665]

National Register of Historic Places; Notification of Pending Nominations and Related Actions

Nominations for the following properties being considered for listing or related actions in the National Register were received by the National Park Service before December 8, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by January 29, 2013. Before including your address, phone number, email address, or other personal identifying information in your comment, you should be aware that your entire comment—including your personal identifying information—may be made publicly available at any time. While you can ask us in your comment to withhold your personal identifying information from public review, we cannot guarantee that we will be able to do so.

Dated: December 14, 2012.
J. Paul Loether,
Chief, National Register of Historic Places/National Historic Landmarks Program.

ARIZONA

Pima County

Rincon Heights Historic District, Roughly bounded by 6th St., Broadway Blvd., Campbell & Fremont Aves., Tucson, 12001190

San Rafael Estates, NE. corner of Broadway Blvd. & Wilmont Rd., Tucson, 12001189

CALIFORNIA

Alameda County

Naval Air Station Alameda Historic District, NAS Alameda, Alameda, 12001191

San Diego County

Chicano Park, Near National Ave. & Dewey St., San Diego, 12001192

COLORADO

El Paso County

Wolfe, John, House, 905 W. Cheyenne Rd., Colorado Springs, 12001193

DISTRICT OF COLUMBIA

District of Columbia

Hamilton Hotel, 1001 14th St. NW., Washington, 12001194

Wire Building, 1000 Vermont Ave. NW., Washington, 12001195

FLORIDA

Indian River County

Osceola Park Historic Residential District, Bounded by 20th & 18th Sts., 20th & 23rd Aves., Vero Beach, 12001196

KENTUCKY

Boyle County

Second Street Christian Church, 228 S. 2nd St., Danville, 12001197

St. James AME Church, 124 E. Walnut St., Danville, 12001198

Christian County

Attucks High School, 712 1st. St., Hopkinsville, 12001199

Knott County

Amburgey Log Home, 105 Dead Mare Branch, Mallie, 12001200

Marion County

Gravel Switch Historic District, Along KY 243, E. Railroad Ave. & Aliceton Rd., Gravel Switch, 12001201

Loretto Historic District, (Crossroads Communities in Kentucky's Bluegrass Cultural Landscape Region MPS) Along KY 49 & KY 52, Loretto, 12001202

Washington County

Mackville Historic District, (Crossroads Communities in Kentucky's Bluegrass Cultural Landscape Region MPS) Along KY 433 & KY 152, Mackville, 12001203

Willisburg Historic District, (Crossroads Communities in Kentucky's Bluegrass Cultural Landscape Region MPS) Along KY 433 & KY 53, Willisburg, 12001204

LOUISIANA

Madison Parish

Tallulah Coca-Cola Bottling Plant, N. Plum & E. Green Sts., Tallulah, 12001205

Rapides Parish

Guaranty Bank, Park Avenue Branch, 403 Bolton Ave., Alexandria, 12001206

MISSOURI

Howard County

New Franklin Commercial Historic District, 106-136 & 101-113 E. Broadway, New Franklin, 12001207

NEW YORK

Steuben County

New York State Soldiers' and Sailors' Home—Bath Veterans Administration Center Historic District, 76 Veterans Ave., Bath, 12001208

OHIO

Ashland County

Downtown Ashland Historic District, Roughly bounded by Cottage-Claremont Ave., 3rd, 4th, & Union Sts. & Town Cr., Ashland, 12001209

Cuyahoga County

Baldwin—Wallace College North Campus Historic District, Bounded by Bagley & E. 5th Aves., Front & Beech Sts., Berea, 12001210

Carroll, John, University North Quad Historic District, 1 John Carroll Blvd., University Heights, 12001211

East Ohio Building, The, 1717 E. 9th St., Cleveland, 12001212

Record Rendezvous, (Lower Prospect—Huron District MPS) 300 Prospect Ave., Cleveland, 12001213

West 25th Street—Detroit Avenue Historic District, Roughly bounded by Detroit Ave., Aust Ct., W. 25th & W. 28th Sts., Cleveland, 12001214

Medina County

Wheeling and Lake Erie Railroad Depot, 204 Railroad St., Lodi, 12001215

SOUTH DAKOTA

Jerauld County

Hawkeye Valley Mill, SE1/4 S23, T106N, R65W, Wessington Springs, 12001216

Minnehaha County

Sid's Crown Liquor, 330 S. 1st Ave., Sioux Falls, 12001217

Texaco Super Service Station, 330 S. 1st Ave., Sioux Falls, 12001218

Yankton County

Scottish Rite Masonic Temple, 333 Cedar St., Yankton, 12001219

VIRGINIA

Chesterfield County

Falling Creek UDC Jefferson Davis Highway Marker, (UDC Commemorative Highway Markers along the Jefferson Davis Highway in Virginia MPS) US 1 at Falling Cr. Wayside, Richmond, 12001220

WASHINGTON

King County

Bay View Brewery, 3100-3222 Airport Way S., Seattle, 12001221

Mason County

Malaney—O'Neill House, 1570 E. Agate Bay Rd., Shelton, 12001222

Yakima County

Bumping Lake Cabin No. 16, 1920 Bumping Lake Rd., Naches, 12001223

WYOMING

Sublette County

Green River Drift Trail Traditional Cultural Property, (Ranches, Farms, and Homesteads in Wyoming, 1860-1960 MPS) Generally follows upper Green R., Cora, 12001224

[FR Doc. 2013-00504 Filed 1-11-13; 8:45 am]

BILLING CODE 4312-51-P